DEPARTMENT OF THE INTERIOR

National Park Service

[NPS-PWR-PWRO-0411-10066; 9530-0905-454]

Prairie Stewardship Plan/Environmental Impact Statement, San Juan Island National Historical Park

AGENCY: National Park Service, Interior.

ACTION: Notice of Intent to Prepare an Environmental Impact Statement for Prairie Stewardship Plan, San Juan Island National Historical Park, Washington.

SUMMARY: Pursuant to the National Environmental Policy Act of 1969, 42 U.S.C. 4332(2)(C), the National Park Service (NPS) is initiating the preparation of an Environmental Impact Statement (EIS) for a Prairie Stewardship Plan, as called for in the 2008 General Management Plan. The Prairie Stewardship Plan (plan) will establish management goals for perpetuating this sensitive ecosystem, while also providing for the use and enjoyment of the park by current and future generations. The purpose of the scoping process is to elicit public comments regarding the full spectrum of public issues and concerns, suitable stewardship actions, and nature and extent of potential environmental consequences and appropriate mitigation strategies which should be addressed in the EIS process.

SUPPLEMENTARY INFORMATION: A range of alternatives for stewardship of prairie areas in San Juan Island National Historical Park (Park) will be developed through this conservation planning and environmental impact analysis process, which will include at least no-action and preferred alternatives. Topics which the EIS/plan is expected to address include: (1) Designing a flexible, adaptable, diverse, and sustainable plan that reflects shared objectives responsive to community concerns and NPS mandates; (2) determining the best means to perpetuate native and native endemic species by considering a full range of potential management actions to improve prairie stewardship; (3) determining the best means to manage nonnative invasive plant and animal species; (4) identifying management actions for specific areas within the national historical park; (5) incorporating monitoring and evaluation tools to measure success; and (6) allowing for adaptive management based on the results of restoration actions. The EIS will evaluate and compare the potential environmental consequences of all the alternatives, and appropriate mitigation strategies will be included. The “environmentally preferred” alternative will also be identified.

In July, 2010 the NPS released an Environmental Assessment for the proposed plan. Issues and concerns emerged in regards to appropriateness of proposed stewardship actions, and conflicts between desired visitor experience and protection of cultural and natural resource protection could not be resolved. As a result, it was determined that an EIS would be prepared. Subsequently the Park has conducted two workshops to improve community relationships, including an Adaptive Management Workshop in July, 2011 and a Prairie Stewardship Educational Symposium in September, 2011. These workshops brought together interested community members, NPS staff, and scientists to identify issues and concerns, discuss common ground, and begin collection of relevant environmental information to facilitate planning for preparation of the plan/EIS.

All interested persons, organizations, and agencies are encouraged to submit comments and suggestions on issues and concerns that should be addressed in preparing the plan/EIS, and the range of appropriate alternatives that should be examined. All prior comments and information received in regards to the 2010 Environmental Assessment will be carried forward and fully considered in developing the Draft EIS.

DATES: The NPS is beginning public scoping via a letter to state and federal agencies, American Indian tribes, local and regional governments, organizations and businesses, researchers and institutions, and interested members of the public. Written comments concerning the scope of the plan/EIS and submittal of relevant environmental information must be postmarked or transmitted not later than September 4, 2012. Public meetings will be scheduled during the scoping period. Dates, times, and locations of the meetings will be announced on the park Web page and via local and regional newspapers.

FOR FURTHER INFORMATION CONTACT: Jerald Weaver, Chief of Resource Management, San Juan Island National Historical Park (contact via telephone (360) 378-2240 x2224 or Email: jerald_weaver@nps.gov). General information about San Juan Island National Historical Park is available at http://www.nps.gov/sajh.

ADDRESSES: Interested individuals, organizations, and other entities wishing to provide input to this phase of developing the plan/EIS should mail written comments to Superintendent, San Juan Island National Historical Park, P.O. Box 429, Friday Harbor, Washington, 98250. Comments may also be hand-delivered to the Superintendent's Office in Friday Harbor. Telephone: (360) 378-2240.

Before including your address, phone number, email address, or other personal identifying information in your comment, you should be aware that your entire comment—including your personal identifying information—may be made publicly available at any time. While you can ask us in your comment to withhold your personal identifying information from public review, we cannot guarantee that we will be able to do so.

As a delegated EIS, the official responsible for approving the Prairie Stewardship Plan/EIS is Christine Lehnertz, Regional Director, Pacific West Region, National Park Service. Subsequently the official responsible for implementation of the approved plan would be the Superintendent, San Juan Island National Historical Park.

Dated: March 1, 2012.
Christine S. Lehnertz,
Regional Director, Pacific West Region.

[FR Doc. 2012-13607 Filed 6-4-12; 8:45 am]

BILLING CODE 4310-MS-P